DEPARTMENT OF ENERGY

Federal Energy Regulatory Commission

Combined Notice of Filings

Take notice that the Commission has received the following Natural Gas Pipeline Rate and Refund Report filings:

Filings Instituting Proceedings

Docket Numbers: PR22-7-000.

Applicants: Kinder Morgan Border Pipeline LLC.

Description: NGPA Section 311 Rate Approval to be effective 11/1/2021.

Filed Date: 11/23/2021.

Accession Number: 20211123-5156.

Comments/Protests Due: 5 p.m. ET 12/14/21.

Docket Numbers: RP22-339-000.

Applicants: Columbia Gas Transmission, LLC.

Description: § 4(d) Rate Filing: OTRA and Settlement Interim Rate Clarification to be effective 12/1/2021.

Filed Date: 11/23/21.

Accession Number: 20211123-5123.

Comment Date: 5 p.m. ET 12/6/21.

Docket Numbers: RP22-340-000.

Applicants: Mississippi Hub, LLC.

Description: § 4(d) Rate Filing: Mississippi Hub, LLC Tariff Housekeeping Filing to be effective 12/23/2021.

Filed Date: 11/23/21.

Accession Number: 20211123-5127.

Comment Date: 5 p.m. ET 12/6/21.

Docket Numbers: RP22-341-000.

Applicants: ANR Pipeline Company.

Description: § 4(d) Rate Filing: Removal of Fuel Surcharges to be effective 1/1/2022.

Filed Date: 11/23/21.

Accession Number: 20211123-5195.

Comment Date: 5 p.m. ET 12/6/21.

Docket Numbers: RP22-342-000.

Applicants: Dominion Energy Overthrust Pipeline, LLC.

Description: § 4(d) Rate Filing: Statement of Negotiated Rates Version 14, Rockies Express TSA No. 6693 to be effective 12/1/2021.

Filed Date: 11/23/21.

Accession Number: 20211123-5204.

Comment Date: 5 p.m. ET 12/6/21.

Docket Numbers: RP22-343-000.

Applicants: Caledonia Energy Partners, L.L.C.

Description: § 4(d) Rate Filing: Caledonia Energy Partners, LLC Housekeeping Filing to be effective 12/23/2021.

Filed Date: 11/23/21.

Accession Number: 20211123-5215.

Comment Date: 5 p.m. ET 12/6/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP18-923-009.

Applicants: Enable Mississippi River Transmission, LLC.

Description: Compliance filing: Implement Settlement SCT Tariff Sheet in Dockets RP18-923, RP20-131 and RP20-212 to be effective 2/1/2022.

Filed Date: 11/23/21.

Accession Number: 20211123-5210.

Comment Date: 5 p.m. ET 12/6/21.

Any person desiring to protest in any the above proceedings must file in accordance with Rule 211 of the Commission's Regulations (18 CFR § 385.211) on or before 5:00 pm Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 24, 2021.
Debbie-Anne A. Reese,
Deputy Secretary.

[FR Doc. 2021-26129 Filed 11-30-21; 8:45 am]

BILLING CODE 6717-01-P